DEPARTMENT OF DEFENSE

Office of the Secretary

Department of Defense Medicare-Eligible Retiree Health Care Board of Actuaries; Notice of Federal Advisory Committee Meeting

AGENCY: Under Secretary of Defense for Personnel and Readiness, Department of Defense (DoD).

ACTION: Notice of federal advisory committee meeting.

SUMMARY: The DoD is publishing this notice to announce that the following Federal Advisory Committee meeting of the Department of Defense Medicare-Eligible Retiree Health Care Board of Actuaries (hereafter, “Board”) will take place.

DATES: Open to the public Friday, July 28, 2023, from 10:00 a.m. to 1:00 p.m.

ADDRESSES: This meeting will be held virtually. For information on accessing the meeting, please contact Inger Pettygrove, (703) 225-8803 or Inger.M.Pettygrove.civ@mail.mil before Friday, July 14, 2023, at 12:00 p.m. EDT.

FOR FURTHER INFORMATION CONTACT: Inger Pettygrove, (703) 225-8803 (Voice), Inger.M.Pettygrove.civ@mail.mil (Email). Mailing address is Defense Human Resources Activity, DoD Office of the Actuary, 4800 Mark Center Drive, STE 03E25, Alexandria, VA 22350-8000. Website: https://actuary.defense.gov/. The most up-to-date changes to the meeting agenda can be found on the website.

SUPPLEMENTARY INFORMATION: This meeting is being held in accordance with chapter 10 of title 5 United States Code (U.S.C.) (formerly known as the Federal Advisory Committee Act (FACA) (5 U.S.C., app.)), under the provisions of the Government in the Sunshine Act of 1976 (5 U.S.C. 552b, as amended), and 41 CFR 102-3.140 and 102-3.150.

Purpose of the Meeting: The purpose of the meeting is to execute the provisions of 10 U.S.C. chapter 56 (10 U.S.C. 1114 et seq.). The Board shall review DoD actuarial methods and assumptions to be used in the valuation of benefits under DoD retiree health care programs for Medicare-eligible beneficiaries.

Agenda: Discussion includes:

1. Approve actuarial assumptions and methods needed for calculating *:

—September 30, 2022, unfunded liability (UFL)

—FY 2025 per capita full-time and part-time normal cost amounts

—October 1, 2023, Treasury UFL amortization payment

2. Approve per capita full-time and part-time normal cost amounts for the October 1, 2023 (FY 2024) normal cost payments *

3. Trust Fund Update—Investment Experience

4. Medicare-Eligible Retiree Health Care Fund Update

5. September 30, 2021, Actuarial Valuation Results

6. September 30, 2022, Actuarial Valuation Proposals

* Board approval required

Meeting Accessibility: Pursuant to FACA and 41 CFR 102-3.140, this meeting is open to the public.

Written Statements: In accordance with Section 10(a)(3) of the FACA and 41 CFR 102-3.105(j) and 102-3.140, interested persons may submit a written statement for consideration at any time, but should be received at least 10 business days prior to the meeting date so that the comments may be made available to the Board for their consideration prior to the meeting. Written statements should be submitted via email to Inger Pettygrove at Inger.M.Pettygrove.civ@mail.mil, by July 14, 2023, in either Adobe or Microsoft Word format. Please note that since the Board operates under the provisions of the FACA, as amended, all submitted comments and public presentations will be treated as public documents and will be made available for public inspection, including, but not limited to, being posted on the Board website.

Dated: June 13, 2023.
Aaron T. Siegel,
Alternate OSD Federal Register Liaison Officer, Department of Defense.

[FR Doc. 2023-12981 Filed 6-15-23; 8:45 am]

BILLING CODE 5001-06-P